DEPARTMENT OF ENERGY

Federal Energy Regulatory Commission

[Docket No. OR02-13-000]

SFPP, L.P.; Notice of Petition for Declaratory Order

September 26, 2002.

Take notice that on September 19, 2002, SFPP, L.P. (SFPP) filed in Docket No. OR02-13-000, a petition for a declaratory order, pursuant to Rule 207(a)(2) of the Commission's Rules of Practice and Procedure (18 CFR 385.207(a)(2)). SFPP requests that the Commission issue an expedited decision on this Petition no later than the end of December 2002. This filing may be viewed online at http://www.ferc.fed.us/ferris.htm, on file with the Commission and open to public inspection.

SFPP states that it proposes to expand the capacity of its currently constrained East Line, which operates under Tariff FERC No. 73 and provides service from El Paso, TX and Diamond Junction, TX to Lordsburg, NM, Tucson, AZ, and Phoenix, AZ, as follows: (1) SFPP proposes to expand the capacity of the East Line's segment from El Paso to Tucson by approximately 53,000 barrels per day, and (2) SFPP proposes to expand the capacity of the East Line's segment from Tucson to Phoenix by approximately 44,000 barrels per day.

SFPP's East Line has been under prorationing since the beginning of 1999. The current constrained capacity of the East Line is expected to be exacerbated by anticipated expansions of refineries and a pipeline currently providing supply to the East Line, and by the opening of Longhorn Pipeline. SFPP states that letters of intent received from current and potential East Line shippers regarding this proposed expansion indicate that this expansion is necessary and will be utilized.

In order to go forward with this proposed expansion of the East Line, SFPP states that it seeks, by the end of December 2002 a Commission declaration:

(a) That a substantial divergence, pursuant to Section 342.4(a), can be based on a capital investment, such as SFPP's investment in the proposed East Line expansion;

(b) that, if cost-of-service tariff rates calculated in the event the proposed East Line expansion goes into service exceed indexed tariff rates by 20 percent or more, the Commission will find that such a difference constitutes a substantial divergence pursuant to Section 342.4(a) under the circumstances of the East Line and will permit SFPP to charge such cost-of-service tariff rates; and

(c) that if, in response to a protest concerning the level of the tariff rates, the Commission suspends East Line cost-of-service tariff rates filed by SFPP following the proposed East Line expansion, those rates will be accepted for filing and made effective as of the date proposed by SFPP, subject to refund.

SFPP states that without favorable Commission action on these requests, it will not undertake the proposed East Line expansion. Assuming Commission approval of SFPP's Petition for Declaratory Order and request for expedited decisions, SFPP states that it anticipates construction to begin in 2004 and service on the expanded East Line to begin in the first quarter of 2005.

Any person desiring to be heard or to protest said filing should file a motion to intervene or a protest with the Federal Energy Regulatory Commission, 888 First Street, NE, Washington, DC 20426, in accordance with Sections 385.214 or 385.211 of the Commission's Rules and Regulations. All such motions or protests must be filed on or before October 21, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-25014 Filed 10-1-02; 8:45 am]

BILLING CODE 6717-01-P